DEPARTMENT OF DEFENSE

GENERAL SERVICES ADMINISTRATION

NATIONAL AERONAUTICS AND SPACE ADMINISTRATION

48 CFR Part 30

[FAC 2021-02; FAR Case 2020-003; Item I; Docket No. FAR-2020-0003, Sequence 1]

RIN 9000-AO06

Federal Acquisition Regulation: Removal of FAR Appendix; Correction

AGENCY: Department of Defense (DoD), General Services Administration (GSA), and National Aeronautics and Space Administration (NASA).

ACTION: Final rule; correction.

SUMMARY: DoD, GSA, and NASA are issuing a correction to FAC 2021-02; FAR Case 2020-003; Removal of FAR Appendix; Item I; which published in the Federal Register on October 23, 2020. This correction makes an editorial change to correct the amendatory language in the affected FAR section of part 30.

DATES: Effective: November 23, 2020.

FOR FURTHER INFORMATION CONTACT: Mr. Bryon Boyer, Procurement Analyst, at 817-850-5580 or by email at bryon.boyer@gsa.gov for clarification of content. For information pertaining to status or publication schedules, contact the Regulatory Secretariat Division at 202-501-4755. Please cite FAC 2021-02, FAR Case 2020-003; Correction.

SUPPLEMENTARY INFORMATION:

Correction

In FR Doc. 2020-21695, published in the Federal Register at 85 FR 67613, on October 23, 2020, make the following correction:

30.202-7 [Corrected]

On page 67614, in the third column, revise amendatory instruction number 24, to read as follows:

24. Amend section 30.202-7 in paragraph (a)(1) introductory text by removing “(FAR Appendix)”.

William F. Clark,
Director, Office of Government-wide Acquisition Policy, Office of Acquisition Policy, Office of Government-wide Policy.

[FR Doc. 2020-24158 Filed 11-13-20; 8:45 am]

BILLING CODE 6820-EP-P